DEPARTMENT OF DEFENSE

Office of the Secretary

Establishment of Department of Defense Federal Advisory Committees

AGENCY: Department of Defense.

ACTION: Establishment of Federal Advisory Committee.

SUMMARY: Under the provisions of section 2852(b), of the Ike Skelton National Defense Authorization Act (NDAA) for Fiscal Year 2011 (Pub. L. 111-383), the Federal Advisory Committee Act of 1972 (5 U.S.C. Appendix, as amended), the Government in the Sunshine Act of 1976 (5 U.S.C. 552b) (“the Sunshine Act), and 41 CFR 102-3.50(a), the DoD gives notice that it is establishing the charter for the Independent Review Panel on Military Medical Construction Standards (“the Panel”).

The Panel, pursuant to section 2852(b), of the Ike Skelton NDAA for Fiscal Year 2011 (Pub. L. 111-383), is a non-discretionary Federal advisory committee established to provide the Secretary of Defense independent advice and recommendations regarding a construction standard for military medical centers to provide a single standard of care, as set forth below:

a. Reviewing the unified military medical construction standards to determine the standards consistency with industry practices and benchmarks for world class medical construction;

b. Reviewing ongoing construction programs within the DoD to ensure medical construction standards are uniformly applied across applicable military centers;

c. Assessing the DoD approach to planning and programming facility improvements with specific emphasis on facility selection criteria and proportional assessment system; and facility programming responsibilities between the Assistant Secretary of Defense for Health Affairs and the Secretaries of the Military Departments;

d. Assessing whether the Comprehensive Master Plan for the National Capital Region Medical (“the Master Plan”), dated April 2010, is adequate to fulfill statutory requirements, as required by section 2714 of the Military Construction Authorization Act for Fiscal Year 2010 (division B of Pub. L. 111-84; 123 Stat. 2656), to ensure that the facilities and organizational structure described in the Master Plan result in world class military medical centers in the National Capital Region; and

e. Making recommendations regarding any adjustments of the Master Plan that are needed to ensure the provision of world class military medical centers and delivery system in the National Capital Region.

The Panel, not later than 120 days after the first meeting, shall submit to the Secretary of Defense a written report containing an assessment of the adequacy of the plan to address the above items relating to the purpose of the Panel and the recommendations of the Panel to improve the Master Plan.

Additional Reports—Each year until the Panel terminates, it shall submit, no later than February 1, an annual report to the Secretary of Defense on the Panel's findings and recommendations to address any identified deficiencies.

The Panel or its members, with the Department's approval, may visit military treatment centers and military headquarters in connection with the official duties of the Panel. Such visits shall be undertaken through the Under Secretary of Defense for Personnel and Readiness (USD(P&R)) and in coordination with the appropriate Military Departments and installation commanders.

The Panel is not established to provide advice on individual DoD procurements. No matter shall be assigned to the Panel for its consideration that would require any Panel members to participate personally and substantially in the conduct of any specific procurement or place him or her in the position of acting as a contracting or procurement official. The Panel reports to the Secretary of Defense. The USD(P&R), pursuant to DoD policy, may act upon the Panel's advice and recommendations.

The Panel shall be comprised of no more than 14 members appointed by the Secretary of Defense.

The Secretary of Defense shall appoint 10 members. Those members shall include medical facility design experts; military healthcare professionals; representatives of premier health care centers in the United States; and former retired senior military officers with joint operational and budgetary experience.

The Chairman and ranking members of the Committees on the Armed Services of the Senate and the House of Representatives may each designate one member of the Panel, for a total of four members. Individuals designated by the Chairman and ranking members of the Committees on the Armed Services of the Senate and the House of Representatives shall be appointed by the Secretary of Defense.

Panel members appointed by the Secretary of Defense shall be appointed for the duration of the Panel, with annual renewals of appointments. Panel members, who are not full-time or permanent part-time Federal officers or employees, shall be appointed to serve as experts or consultants under the authority of 5 U.S.C. 3109 and serve as special Government employee (SGE) member. Each member of the Panel is appointed to provide advice on behalf of the Government on the basis of his or her best judgment without representing any particular point of view and in a manner that is free from conflict of interest. With the exception of travel and per diem for travel related to the Panel, members of the Panel shall serve without compensation. Under the provisions of Public Law 111-383 § 2852(b)(2)(D), any additional experts or consultants adviser called in for consultation on behalf of the Panel shall also be reimbursed for necessary travel expenses.

The Secretary of Defense may appoint additional experts and consultants, with relevant expertise, to assist the Panel on an ad-hoc basis. These non-member experts and consultants, who do not count toward the Panel's total membership, shall be appointed to serve as SGEs under the authority of 5 U.S.C. 3109; however, these experts and consultants have no voting rights on the Panel and are prohibited from engaging in Panel deliberations.

The Department, when necessary and consistent with the Panel's mission and DoD policies/procedures, may establish subcommittees, task groups, and working groups to support the Panel. Establishment of subcommittees will be based upon a written determination, to include terms of reference, by the Secretary of Defense, the Deputy Secretary of Defense, or the USD(P&R).

Such subcommittees shall not work independently of the Panel and shall report all of their recommendations and advice solely to the Panel for full deliberation and discussion. Subcommittees have no authority to make decisions and recommendations, verbally or in writing, on behalf of the Panel; nor can any subcommittee or its members update or report directly to DoD or any Federal officers or employees.

All subcommittee members shall be appointed in the same manner as the Panel members; that is, the Secretary of Defense shall appoint subcommittee members even if the member in question is already a Panel member. Subcommittee members, with the approval of the Secretary of Defense, may serve a term of service for the life of the Panel with annual renewals; however, no member shall serve more than two consecutive terms of service on the subcommittee. Subcommittee members, if not full-time or part-time Government employees, shall be appointed to serve as experts and consultants under the authority of 5 U.S.C. 3109, and serve as SGEs, whose appointments must be renewed by the Secretary of Defense on an annual basis. With the exception of travel and per diem for official travel related to the Panel or its subcommittees, subcommittee members shall serve without compensation.

Each subcommittee operates under the provisions of FACA, the Sunshine Act, governing Federal statutes and regulations, and governing DoD policies/procedures.

FOR FURTHER INFORMATION CONTACT: Jim Freeman, Advisory Committee Management Officer for the Department of Defense, 703-692-5952.

SUPPLEMENTARY INFORMATION: The Panel shall meet at the call of the Panel's Designated Federal Officer (DFO), in consultation with the Panel's Chairperson(s). The estimated number of meetings by the Panel is four per year.

The Panel's DFO, pursuant to DoD policy, shall be a full-time or permanent part-time DoD employee, and shall be appointed in accordance with established DoD policies/procedures. In addition, the Panel's DFO is required to be in attendance at all meetings of the Panel and its subcommittees for the entire duration of each and every meeting. However, in the absence of the Panel's DFO, a properly approved Alternate DFO, duly appointed to the Panel according to DoD policies/procedures, shall attend the entire duration of meetings of the Panel or subcommittees. The DFO, or the Alternate DFO, shall call all of the Panel's and subcommittees' meetings; prepare and approve all meeting agendas; adjourn any meeting when the DFO, or the Alternate DFO, determines adjournment to be in the public interest or required by governing regulations or DoD policies/procedures; and chair meetings when directed to do so by the official to whom the Panel reports.

Pursuant to 41 CFR 102-3.105(j) and 102-3.140, the public or interested organizations may submit written statements to the Panel membership about the Panel's mission and functions. Written statements may be submitted at any time or in response to the stated agenda of planned meeting of the Panel.

All written statements shall be submitted to the DFO for the Panel, and this individual will ensure that the written statements are provided to the membership for their consideration. Contact information for the Panel's DFO can be obtained from the GSA's FACA Database— https://www.fido.gov/facadatabase/public.asp.

The DFO, pursuant to 41 CFR 102-3.150, will announce planned meetings of the Panel. The DFO, at that time, may provide additional guidance on the submission of written statements that are in response to the stated agenda for the planned meeting in question.

Dated: December 17, 2012.
Aaron Siegel,
Alternate OSD Federal Register Liaison Officer, Department of Defense.

[FR Doc. 2012-30653 Filed 12-19-12; 8:45 am]

BILLING CODE 5001-06-P